FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants wee made by the Federal Trade Commission and the Assistant Attorney General for the Antitrust Division of the Department of Justice. Neither agency intends to take any action with respect to these proposed acquisitions during the applicable waiting period.

Transaction Granted Early Termination
ET date | Trans num | Et req status | Party name
06-OCT-03 | 20030983 | G | Lehman Brothers Holdings Inc.
|  | G | Brad K. Heppner.
|  | G | Capital Analytics, LP.
|  | G | Crossroads Corporate Advisers, LP.
|  | G | Crossroads Corporate Investors II, LP.
|  | G | Crossroads Investment Company, LP.
|  | G | e-Valuate, LP.
|  | G | The Main Office Management Company, LP.
|  | G | Crossroads Investment Advisers, LP.
|  | G | Crossroads Cornerstone Partners, LP.
|  | G | Crossroads Corporate Investors, LP.
|  | G | Security Assurance Advisers, LP.
| 20031004 | G | Companhia Siderurgica Nacional.
|  | G | Tilcia Rodriguez de Vergara.
|  | G | Tangua Incorporated.
| 20031007 | G | Companhia Siderurgica Nacional.
|  | G | Eduardo Valdes Aleman.
|  | G | Tangua Incorporated.
| 20031014 | G | TA IX L.P.
|  | G | Dr. Howard Schilit.
|  | G | Center for Financial Research & Analysis, Inc.
08-OCT-03 | 20030963 | G | Warburg Pincus Private Equity VIII, L.P.
|  | G | Proxim Corporation.
|  | G | Proxim Corporation.
| 20030999 | G | The Procter & Gamble Company.
|  | G | W.L. Gore & Associates, Inc.
|  | G | W.L. Gore & Associates, Inc.
| 20031010 | G | eCollege.com.
|  | G | Leeds Equity Partners III, LP.
|  | G | DataMark Inc.
10-OCT-03 | 20031003 | G | Mr. Raul Alarcon, Jr.
|  | G | International Church of the Foursquare Gospel.
|  | G | KSFG-FM Station.
| 20031018 | G | Essent Healthcare, Inc.
|  | G | CHRISTUS Health.
|  | G | CHRISTUS St. Joseph's Health System.
|  | G | PTCOP, Inc.
14-OCT-03 | 20030680 | G | Dean Foods Company.
|  | G | Vestar Capital Partners IV, L.P.
|  | G | M-Foods Dairy, LLC.
|  | G | M-Foods Dairy, TXCT, LLC.
| 20030966 | Y | Scientific Games Corporation.
|  | Y | International Game Technology.
|  | Y | IGT Online Entertainment Systems, Inc.
15-OCT-03 | 20030997 | G | Nelson A. Carbonell, Jr.
|  | G | Cysive, Inc.
|  | G | Cysive, Inc.
| 20031013 | G | William I. Koch.
|  | G | Walter Industries, Inc.
|  | G | Applied Industrial Material Corporation.
| 20040012 | G | FTI Consulting, Inc.
|  | G | Lawrence J. Ellison.
|  | G | Lexecon, Inc.
|  | G | ERG Acquisition Corp.
|  | G | CE Acquisition Corp.
| 20040013 | G | FTI Consulting, Inc.
|  | G | Micahel R. Milken.
|  | G | Lexecon, Inc.
|  | G | CE Acquisition Corp.
|  | G | ERG Acquisition Corp.
16-OCT-03 | 20030618 | G | GenCorp Inc.
|  | G | Norman E. Alexander.
|  | G | Atlantic Research Corporation.
| 20040014 | G | Silicon Laboratories Inc.
|  | G | Cygnal Integrated Products, Inc.
|  | G | Cygnal Integrated Products, Inc.
20-OCT-03 | 20030982 | G | DLJ Merchant Banking Partners II, L.P.
|  | G | The Lehigh Press, Inc.
|  | G | The Lehigh Press, Inc.
| 20040004 | G | HSBC Holding plc.
|  | G | Roxanne Quimby.
|  | G | Burt's Bees, Inc.
21-OCT-03 | 20040005 | G | LBO France Gestion SAS.
|  | G | Speciality Materials Investors.
|  | G | Materis Participations.
| 20040029 | G | AT&T Wireless Services, Inc.
|  | G | AT&T Wireless Services, Inc.
|  | G | Pittsburgh Cellular Telephone Company.
| 20040033 | G | SBC Communications Inc.
|  | G | Allen Salmasi.
|  | G | Nextwave Personal Communications Services.
23-OCT-03 | 20040027 | G | Stage Stores, Inc.
|  | G | Kelso Investment Associates V, L.P.
|  | G | PHC Retain Holding Company.
| 20040042 | G | Marubeni Corporation.
|  | G | Exelon Corporation.
|  | G | Sithe International Inc.
24-OCT-03 | 20040008 | G | Morganthaler Partners VII, L.P.
|  | G | Robert Burch.
|  | G | Jonathan Manufacturing Corp.
| 20040019 | G | Carl C. Icahn.
|  | G | Philip Services Corp.
|  | G | Philip Services Corp.
| 20040030 | G | UBS AG.
|  | G | ABN AMRO Holding N.V.
|  | G | ABN AMRO Inc.
| 20040034 | G | TT Electronics PLC.
|  | G | Robert R. Dyson.
|  | G | Optek Technology, Inc.
| 20040036 | G | George A. Steiner Trust.
|  | G | Michael R. Kelly.
|  | G | National Service Industries, Inc.
| 20040036 | G | George A. Steiner Trust.
|  | G | Michael R. Kelly.
|  | G | National Service Industries, Inc.
| 20040038 | G | APAX Europe V-A L.P.
|  | G | IFCO Systems N.V.
|  | G | IFCO Systems N.V.
27-OCT-03 | 20031017 | G | TBC Corporation.
|  | G | Sears, Roebuck and Co.
|  | G | NTW Incorporated.
| 20040032 | G | Aggregate Industries plc.
|  | G | Floyd A. Meldrum.
|  | G | Southern Nevada Paving Company, Inc.
| 20040040 | G | SBC Communications, Inc.
|  | G | AT&T Wireless Services, Inc.
|  | G | Pinnacle Cellular Limited Partnership.
|  | G | Worcester Telephone Company.
28-OCT-03 | 20040037 | G | FTI Consulting, Inc.
|  | G | KPMG, LLP.
|  | G | KPMG, LLP.
| 20040051 | G | Thomas H. Lee Equity Fund V, L.P.
|  | G | Vestar Capital Partners IV, L.P.
|  | G | M-Foods Holdings, Inc.
29-OCT-03 | 20040035 | G | Armor Holdings, Inc.
|  | G | Simula, Inc.
|  | G | Simula, Inc.
| 20040047 | G | Carl C. Icahn.
|  | G | Eastman Kodak Company.
|  | G | Eastman Kodak Company.
30-OCT-03 | 20040065 | G | K2 Inc.
|  | G | Brass Eagle Inc.
|  | G | Brass Eagle Inc.
31-OCT-03 | 20040002 | G | MeadWestvaco Corporation.
|  | G | Sunrise Capital Partners, L.P.
|  | G | Day Runner, Inc.
|  | G | Day Runner, Inc.
|  | G | Day Runner Direct, Inc.
|  | G | Day Runner Hong Kong Limited.
| 20040003 | G | MeadWestvaco Corporation.
|  | G | Day Holdings, LLC.
|  | G | Day Runner, Inc.
|  | G | Day Runner Direct, Inc.
|  | G | Day Runner Hong Kong Limited.
| 20040052 | G | NetScreen Technologies, Inc.
|  | G | Neoteris, Inc.
|  | G | Neoteris, Inc.
| 20040063 | G | Bookham Technology plc.
|  | G | New Focus, Inc.
|  | G | New Focus, Inc.

FOR FURTHER INFORMATION CONTACT: Sandra M. Peay, Contact Representative, or Renee Hallman, Legal Technician, Federal Trade Commission, Premerger Notification Office, Bureau of Competition, Room H-303, Washington, DC 20580, (202) 326-3100.

By Direction of the Commission.
Donald S. Clark,
Secretary

[FR Doc. 03-29924 Filed 12-1-03; 8:45 am]

BILLING CODE 6750-01-M